DEPARTMENT OF THE TREASURY

Office of Foreign Assets Control

Additional Designation of Entities Pursuant to Executive Order 13382

AGENCY: Office of Foreign Assets Control, Treasury.

ACTION: Notice.

SUMMARY: The Treasury Department's Office of Foreign Assets Control (“OFAC”) is publishing the names of three newly-designated entities whose property and interests in property are blocked pursuant to Executive Order 13382 of June 28, 2005, “Blocking Property of Weapons of Mass Destruction Proliferators and Their Supporters.”

DATES: The designation by the Secretary of the Treasury of the three entities identified in this notice pursuant to Executive Order 13382 is effective on February 16, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in an Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On February 16, 2007, the Secretary of the Treasury, in consultation with the Secretary of State, the Attorney General, and other relevant agencies, designated three entities whose property and interests in property are blocked pursuant to Executive Order 13382.

The list of additional designees follows:

1. KALAYE ELECTRIC COMPANY (a.k.a. KALA ELECTRIC COMPANY), 33 Fifteenth (15th) Street, Seyed-Jamal-Eddin-Assad Abadi Avenue, Tehran, (Iran) [NPWMD]

2. KAVOSHYAR COMPANY, (a.k.a. KAAVOSH YAAR; a.k.a. KAVOSHYAR), P.O. Box 19395-1834, Tehran (Iran); Vanaq Square, Corner of Shiraz Across No. 71, Molla Sadra Ave., Tehran, (Iran); No. 86, 20th St., North Karegar Ave., Tehran (Iran) [NPWMD]

3. PIONEER ENERGY INDUSTRIES COMPANY (a.k.a. PISHGAM ENERGY INDUSTRIES DEVELOPMENT; a.k.a. “PEI”), P.O. Box 81465-361, Isfahan (Iran) [NPWMD]

Dated: April 9, 2007.
Adam Szubin,
Director, Office of Foreign Assets Control.

[FR Doc. E7-8674 Filed 5-4-07; 8:45 am]

BILLING CODE 4811-22-P